DEPARTMENT OF STATE

[Public Notice: 11483]

Notice of Public Meeting in Preparation for International Maritime Organization Meeting

The Department of State will conduct a public meeting at 10:00 a.m. on Monday, August 23, 2021, by way of teleconference. Members of the public may participate up to the capacity of the teleconference phone line, which will handle 500 participants. To access the teleconference line, participants should call (202) 475-4000 and use Participant Code: 138 541 34#.

The primary purpose of the meeting is to prepare for the seventh session of the International Maritime Organization's (IMO) Sub-Committee on Carriage of Cargoes and Containers (CCC) to be held remotely from Monday, September 6, 2021 to Friday, September 10, 2021.

The agenda items to be considered at the public meeting include the items to be considered at the IMO CCC meeting, which include:

—Adoption of the agenda

—Decisions of other IMO bodies

—Amendments to the IGF Code and development of guidelines for low-flashpoint fuels

—Amendments to the IGC and IGF Codes to include high manganese austenitic steel and related guidance for approving alternative metallic material for cryogenic service

—Amendments to the IMSBC Code and supplements

—Amendments to the IMDG Code and supplements

—Amendments to the International Code for the Safe Carriage of Grain in Bulk (resolution MSC.23 (59)) to include a new class of loading conditions for special compartments

—Revision of the Revised recommendations for entering enclosed spaces aboard ships (resolution A.1050 (27))

—Consideration of reports of incidents involving dangerous goods or marine pollutants in packaged form on board ships or in port areas

—Revision of the Inspection programmes for cargo transport units carrying dangerous goods (MSC.1/Circ.1442, as amended by MSC.1/Circ.1521)

—Unified interpretation of provisions of IMO safety, security, and environment-related conventions

—Biennial status report and provisional agenda for CCC 8

—Election of Chair and Vice-Chair for 2022

—Any other business

—Report to the Committees

Please note: The Sub-committee may, on short notice, adjust the CCC 7 agenda to accommodate the constraints associated with the virtual meeting format. Any changes to the agenda will be reported to those who RSVP and those in attendance at the meeting.

Those who plan to participate may contact the meeting coordinator, Dr. Amy Parker, by email at Amy.M.Parker@uscg.mil, by phone at (202) 372-1423, or in writing at 2703 Martin Luther King Jr. Ave. SE, Stop 7509, Washington DC 20593-7509. Members of the public needing reasonable accommodation should advise Dr. Parker not later than August 18, 2021. Requests made after that date will be considered, but might not be possible to fulfill.

Additional information regarding this and other IMO public meetings may be found at: https://www.dco.uscg.mil/IMO.

Authority: 5 U.S.C. 551 et seq. and 22 U.S.C. 2656.

Emily A. Rose,
Coast Guard Liaison Officer, Office of Ocean and Polar Affairs, Department of State.

[FR Doc. 2021-16458 Filed 8-2-21; 8:45 am]

BILLING CODE 4710-09-P